DEPARTMENT OF HEALTH AND HUMAN SERVICES

Administration for Children and Families

Submission for OMB Review; Immigration Legal Services for Afghan Arrivals—Eligible Afghan Arrivals Intake Form and Intake Interview (New Collection)

AGENCY: Office of Refugee Resettlement, Administration for Children and Families, U.S. Department of Health and Human Services.

ACTION: Request for public comments.

SUMMARY: The Office of Refugee Resettlement (ORR), Administration for Children and Families (ACF), U.S. Department of Health and Human Services (HHS), is proposing to collect data from Eligible Afghan Arrivals (EAAs) in need of direct legal services through Immigration Legal Services for Afghan Arrivals (ILSAA) to determine eligibility.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: In August 2021, Operation Allies Welcome (OAW) was established at President Biden's direction to implement coordinated efforts across the federal government to support vulnerable Afghans, including those who worked alongside the U.S. in Afghanistan (OAW, Homeland Security (https://www.dhs.gov/allieswelcome)). Under the Afghanistan Supplemental Appropriations Act, 2022, and Additional Afghanistan Supplemental Appropriations Act, 2022, Congress authorized ORR to provide resettlement assistance and other benefits available to refugees to specific Afghan populations in response to their emergency evacuation and resettlement. ILSAA was established to provide immigration legal services to EAAs. The ILSAA EAA Intake Form and Intake Interview are designed to gather information about EAAs who are interested in receiving legal services through ILSAA. ILSAA staff will review the EAA's information to determine whether they meet the qualifications to receive legal services through ILSAA. This will be done on a rolling basis as EAAs seek legal services through ILSAA.

Respondents: OAW Afghan Populations.

Annual Burden Estimates
Instrument | Annual number of respondents | Total number of responses per respondent | Average burden hours per response | Annual burden hours
Eligible Afghan Arrival (EAA) Intake Form | 2,000 | 1 | 0.08 | 160
Eligible Afghan Arrival (EAA) Intake Interview | 1,600 | 1 | 0.75 | 1,200

Estimated Total Annual Burden Hours: 1,360.

Authority: Division C, Title III, Public Law 117-43,135 Stat. 374; Division B, Title III, Public Law 117-70, 1102 Stat. 4.

Mary C. Jones,
ACF/OPRE Certifying Officer.

[FR Doc. 2024-06832 Filed 3-29-24; 8:45 am]

BILLING CODE 4184-89-P